DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of three individuals and two entities whose property and interests in property have been unblocked pursuant to the Foreign Narcotics Kingpin Designation Act (“Kingpin Act”) (21 U.S.C. Sections 1901-1908, 8 U.S.C. Section 1182). In addition, OFAC is publishing an amendment to the identifying information of one individual previously designated pursuant to the Kingpin Act.

DATES: The unblocking and removal from the list of Specially Designated Nationals and Blocked Persons (“SDN List”) of the three individuals and two entities identified in this notice whose property and interests in property were blocked pursuant to the Kingpin Act, is effective on August 29, 2012.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On August 29, 2012, the Acting Director of OFAC removed from the SDN List the three individuals and two entities listed below, whose property and interests in property were blocked pursuant to the Kingpin Act:

Individuals

1. MARTINEZ, Alicia (a.k.a. MARTINEZ GALINDO, Alicia), c/o AMG RICAS PIZZA, Bogota, Colombia; DOB 26 Mar 1948; Cedula No. 41386662 (Colombia) (individual) [SDNTK].

2. SARABIA DIAZ, Carlos Cristino, Calle Dalia No. 37, Colonia Aguaruto, Culiacan, Sinaloa, Mexico; c/o TOYS FACTORY, S.A. DE C.V., Tijuana, Baja California, Mexico; c/o COMERCIAL JOANA, S.A. DE C.V., Guadalajara, Jalisco, Mexico; c/o COMERCIALIZADORA BRIMAR'S, S.A. DE. C.V., Culiacan, Sinaloa, Mexico; c/o COMERCIAL DOMELY, S.A. DE C.V., Toluca, Mexico, Mexico; DOB 24 Jul 1971; POB Culiacan, Sinaloa, Mexico; nationality Mexico; citizen Mexico; R.F.C. SADC710724I71 (Mexico); C.U.R.P. SADC710724HSLRZR03 (Mexico) (individual) [SDNTK].

3. TARAZONA ENCISO, Nestor Alonso, c/o AGROPECUARIA LA CRUZ S.A., Bogota, Colombia; c/o CRIADERO LAS CABANAS LTDA., Bogota, Colombia; Calle 137 No. 52-37, Rincon Iberia, Bogota, Colombia; San Martin, Meta, Colombia; DOB 13 Jun 1965; Cedula No. 79344969 (Colombia) (individual) [SDNTK].

Entities

1. AGROPECUARIA LA CRUZ S.A., Calle 137 No. 88-76 Int. 2 Apto. 143, Bogota, Colombia; NIT # 813004216-1 (Colombia) [SDNTK].

2. CRIADERO LAS CABANAS LTDA., Calle 137 No. 88-76 Int. 2 Apto. 143, Bogota, Colombia; NIT # 816005110-5 (Colombia) [SDNTK].

In addition, OFAC has amended the identifying information for the following individual previously designated pursuant to the Kingpin Act:

1. FLORES CACHO, Javier, c/o LA NUMERO UNO DE CUAUHTEMOC S.A. DE C.V., Mexico City, Distrito Federal, Mexico; Avenida del Taller No. 23, Ret. 17, Colonia Jardin Balbuena, Delegacion Venustiano Carranza, Mexico City, Distrito Federal, Mexico; Martin Luis Guzman No. 259, Colonia Villa de Cortez, Mexico City, Distrito Federal, Mexico; DOB 30 Aug 1969; POB Mexico City, Distrito Federal, Mexico; nationality Mexico; citizen Mexico; R.F.C. FOCJ-690830 (Mexico); C.U.R.P. FOCJ690830HDFLCV03 (Mexico) (individual) [SDNTK].

The listing for this individual now appears as follows:

1. FLORES CACHO, Javier, Avenida del Taller No. 23, Ret. 17, Colonia Jardin Balbuena, Delegacion Venustiano Carranza, Mexico City, Distrito Federal, Mexico; Martin Luis Guzman No. 259, Colonia Villa de Cortez, Mexico City, Distrito Federal, Mexico; DOB 30 Aug 1969; POB Mexico City, Distrito Federal, Mexico; nationality Mexico; citizen Mexico; R.F.C. FOCJ-690830 (Mexico); C.U.R.P. FOCJ690830HDFLCV03 (Mexico) (individual) [SDNTK].

Dated: August 29, 2012.
Barbara C. Hammerle,
Acting Director, Office of Foreign Assets Control.

[FR Doc. 2012-21887 Filed 9-5-12; 8:45 am]

BILLING CODE 4810-AL-P